DEPARTMENT OF HEALTH AND HUMAN SERVICES

Agency for Healthcare Research and Quality

Correction to a Notice of Meetings

With this Notice, the following “Study Section” meeting published in the Federal Register on December 27, 2004, Volume 69, Number 247, Page 77250, see also http://a257.g.akamaitech.net/7/257/2422/06jun20041800/edocket.access.gpo.gov/2004/04-28187.htm, reflect correct dates:

• Name of Subcommittee: Health Care Technology and Decision Sciences. Date: February 17, 2005.

• Name of Subcommittee: Health Research Dissemination and Implementation. Date: February 25, 2005.

• Name of Subcommittee: Health Systems Research. Date: February 24, 2005.

• Name of Subcommittee: Health Care Quality and Effectiveness Research. Date: February 24, 2005.

Dated: January 14, 2005.
Carolyn M. Clancy,
Director.

[FR Doc. 05-1484 Filed 1-26-05; 8:45 am]

BILLING CODE 4160-90-M